DEPARTMENT OF HEALTH AND HUMAN SERVICES

Centers for Medicare & Medicaid Services

[Document Identifier: CMS-838, CMS-10267 and CMS-339]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Medicare Credit Balance Reporting Requirements and Supporting Regulations in 42 CFR 405.371, 405.378 and 413.20; Use: Section 1815(a) of the Act authorizes the Secretary to request information from providers which is necessary to properly administer the Medicare program. Quarterly credit balance reporting is needed to monitor and control the identification and timely collection of improper payments. The information obtained from Medicare credit balance reports will be used by the contractors to identify and recover outstanding Medicare credit balances and by Federal enforcement agencies to protect Federal funds. The information will also be used to identify the causes of credit balances and to take corrective action. Form Number: CMS-838 (OMB# 0938-0600); Frequency: Yearly; Affected Public: Private sector—business or other for-profits; Number of Respondents: 52,380; Total Annual Responses: 209,520; Total Annual Hours: 628,560. (For policy questions regarding this collection contact: Milton Jacobsen at 410-786-7553. For all other issues call 410-786-1326.)

2. Type of Information Collection Request: Extension of a currently approved collection; Title of Information Collection: CROWNWeb Authentication Service (CAS) Account Form; Form Number: CMS-10267 (OMB#: 0938-1050); Use: The Consolidated Renal Operations in a Web Enabled Network (CROWNWeb) Authentication Service (CAS) application must be completed by any person needing access to the CROWNWeb system which includes CMS employees, ESRD Network Organization staff and dialysis facilities staff. The CROWNWeb system is the system used as the collection point of data necessary for entitlement of ESRD patients to Medicare benefits and Federal Government monitoring and assessing of quality and type of care provided to renal patients. The data collected in CAS will provide the necessary security measures for creating and maintaining active CROWNWeb user accounts and collection of audit trail information required by the CMS Information Security Officers (ISSO). Frequency: Reporting—One-time; Affected Public: Business or other for-profit, not-for-profit; Number of Respondents: 15,600; Total Annual Responses: 15,600; Total Annual Hours: 7,800. (For policy questions regarding this collection contact: Michelle Tucker at 410-786-0376. For all other issues call 410-786-1326.)

3. Type of Information Collection Request: Extension of a currently approved collection; Title of Information Collection: Medicare Provider Cost Report Reimbursement Questionnaire; Use: Form CMS-339 must be completed by all providers that submit full cost reports to the Medicare intermediary under Title XVIII of the Social Security Act. It is designed to answer pertinent questions about key reimbursement concepts found in the cost report and to gather information necessary to support certain financial and statistical entries on the cost report. The questionnaire is used by the Medicare intermediaries as a tool to help them arrive at a prompt and equitable settlement of all of the various types of provider cost reports (hospitals, skilled nursing facilities (SNFs), home health agencies (HHAs), etc.) and sometimes preclude the need for a comprehensive on-site audit. Form Number: CMS-339 (OMB# 0938-0301); Frequency: Annually; Affected Public: Business or other for-profit and not-for-profit institutions; Number of Respondents: 38,429; Total Annual Responses: 38,429; Total Annual Hours: 431,148. (For policy questions regarding this collection contact: Christine Dobrzycki at 410-786-3389. For all other issues call 410-786-1326.)

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office at (410) 786-1326.

To be assured consideration, comments and recommendations for the proposed information collections must be received by the OMB desk officer at the address below, no later than 5 p.m. on March 27, 2009.

OMB, Office of Information and Regulatory Affairs, Attention: CMS Desk Officer, New Executive Office Building, Room 10235, Washington, DC 20503, Fax Number: (202) 395-6974.

Dated: February 12, 2009.
Michelle Shortt,
Director, Regulations Development Group, Office of Strategic Operations and Regulatory Affairs.

[FR Doc. E9-3937 Filed 2-24-09; 8:45 am]

BILLING CODE 4120-01-P